DEPARTMENT OF EDUCATION

34 CFR Part 200

RIN 1810-AB33

[Docket ID: ED-2016-OESE-0056]

Title I—Improving the Academic Achievement of the Disadvantaged-Supplement Not Supplant; Withdrawal

AGENCY: Office of Elementary and Secondary Education, Department of Education.

ACTION: Proposed rule; withdrawal.

SUMMARY: The U.S. Department of Education (Department) is withdrawing the notice of proposed rulemaking (NPRM) pertaining to the supplement not supplant requirements under title I, part A of the Elementary and Secondary Education Act of 1965 (ESEA), as amended by the Every Student Succeeds Act (ESSA).

DATES: As of July 17, 2018, the proposed regulations published on September 6, 2016, at 81 FR 61148 are withdrawn.

FOR FURTHER INFORMATION CONTACT: Patrick Rooney, U.S. Department of Education, 400 Maryland Avenue SW, Room 3W202, Washington, DC 20202. Telephone: (202) 453-5514. Email: patrick.rooney@ed.gov.

If you use a telecommunications device for the deaf (TDD) or a text telephone (TTY), call the Federal Relay Service (FRS), toll free, at 1-800-877-8339.

SUPPLEMENTARY INFORMATION: Section 1118(b)(2) of the ESEA, as amended by the ESSA, contains a new provision for demonstrating compliance with the title I, part A supplement not supplant requirement. Pursuant to section 1601(b)(3)(A) of the ESEA, prior to issuing any regulations that implement the supplement not supplant requirement, the Department must engage in negotiated rulemaking. The Department conducted negotiated rulemaking on draft supplement not supplant regulations in spring 2016 but the negotiating committee did not reach consensus.

Subsequently, on September 6, 2016, the Department published in the Federal Register an NPRM (81 FR 61148) proposing regulations relating to the supplement not supplant requirement in title I, part A of the ESEA, as amended by the ESSA. In January 2017, the Department announced that it would not publish final regulations on this requirement. As a result, the Department withdraws its NPRM. We note that this is considered a deregulatory action under Executive Order 13771. Because the Department did not publish final regulations, this withdrawal will have no effect on existing regulations, which do not include provisions implementing the title I, part A supplement not supplant requirement.

Accessible Format: Individuals with disabilities can obtain this document and the NPRM in an accessible format (e.g., braille, large print, audiotape, or compact disc) on request to the person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: July 12, 2018.
Frank Brogan,
Assistant Secretary for Elementary and Secondary Education.

[FR Doc. 2018-15259 Filed 7-16-18; 8:45 am]

BILLING CODE 4000-01-P